DEPARTMENT OF STATE

[Public Notice: 12333]

Notice of Public Meeting in Preparation for International Maritime Organization Tenth Session of the Sub-Committee on Ship Systems and Equipment (SSE) Meeting

The Department of State will conduct a public meeting at 1:00 p.m. on Tuesday, February 27, 2024, via teleconference. The primary purpose of the meeting is to prepare for the 10th session of the International Maritime Organization's (IMO) Sub-committee on Ship Systems and Equipment (SSE 10) to be held at IMO Headquarters in London, United Kingdom from Monday, March 4 to Friday, March 8, 2024.

Members of the public may participate up to the capacity of the teleconference phone line, which can handle 500 participants, and the teleconference line will be provided to those who RSVP. To RSVP, participants should contact the meeting coordinator, LT Jeffrey Bors by email at Jeffrey.S.Bors@uscg.mil.LT Bors will provide access information for virtual attendance.

The agenda items to be considered at SSE 10 include:

—Adoption of the agenda

—Decisions of other IMO bodies

—New requirements for ventilation of survival craft

—Development of design and prototype test requirements for the arrangements used in the operational testing of free-fall lifeboat release systems without launching the lifeboat

—Revision of SOLAS chapter III and the LSA Code

—Amendments to SOLAS chapter III and chapter IV of the LSA Code to require the carriage of self-righting or canopied reversible liferafts for new ships

—Development of amendments to paragraph 8.3.5 and annex 1 of the 1994 and 2000 HSC Codes

—Revision of the 2010 FTP Code to allow for new fire protection systems and materials

—Revision of the provisions for helicopter facilities in SOLAS and the MODU Code

—Development of amendments to SOLAS chapter II-2 and the FSS Code concerning detection and control of fires in cargo holds and on the cargo deck of containerships

—Validated model training courses

—Unified interpretation of provisions of IMO safety, security and environment-related conventions

—Development of provisions to consider prohibiting the use of fire-fighting foams containing fluorinated substances, in addition to PFOS, for fire-fighting on board ships

—Comprehensive review of the Requirements for maintenance, thorough examination, operational testing, overhaul and repair of lifeboats and rescue boats, launching appliances and release gear (resolution MSC.402(96)) to address challenges with their implementation

—Amendments to the LSA Code for thermal performance of immersion suits

—Evaluation of adequacy of fire protection, detection and extinction arrangements in vehicle, special category and ro-ro spaces in order to reduce the fire risk of ships carrying new energy vehicles

—Biennial status report and provisional agenda for SSE 11

—Election of Chair and Vice-Chair for 2025

—Any other business

—Report to the Maritime Safety Committee

Please note: The IMO may, on short notice, adjust the SSE 10 agenda to accommodate the constraints associated with the meeting format. Any changes to the agenda will be reported to those who RSVP.

Those who plan to participate should contact the meeting coordinator, LT Jeffrey Bors, by email at jeffrey.s.bors@uscg.mil by February 23, 2024. Additional information regarding this and other IMO public meetings may be found at: https://www.dco.uscg.mil/IMO.

(Authority: 22 U.S.C. 2656 and 5 U.S.C. 552)

Leslie W. Hunt,
Coast Guard Liaison Officer, Office of Ocean and Polar Affairs, Department of State.

[FR Doc. 2024-03387 Filed 2-16-24; 8:45 am]

BILLING CODE 4710-09-P